NUCLEAR REGULATORY COMMISSION

[NRC-2017-0198]

Revision of the Guidance Document for Alternative Disposal Requests

AGENCY: Nuclear Regulatory Commission.

ACTION: Draft guidance; public meeting and request for comment.

SUMMARY: The U.S. Nuclear Regulatory Commission (NRC) is requesting comment on the draft revision to its guidance document for alternative disposal requests entitled, “Guidance for the Reviews of Proposed Disposal Procedures and Transfers of Radioactive Material Under 10 CFR 20.2002 and 10 CFR 40.13(a).”

DATES: Submit comments by December 18, 2017. Comments received after this date will be considered if it is practical to do so, but the NRC is able to assure consideration only for comments received on or before this date.

ADDRESSES: You may submit comments by any of the following methods (unless this document describes a different method for submitting comments on a specific subject):

• Federal Rulemaking Web site: Go to http://www.regulations.gov and search for Docket ID NRC-2017-0198. Address questions about NRC dockets to Carol Gallagher; telephone: 301-415-3463; email: Carol.Gallagher@nrc.gov. For technical questions, contact the individual listed in the FOR FURTHER INFORMATION CONTACT section of this document.

• Mail comments to: May Ma, Office of Administration, Mail Stop: OWFN-2-A13, U.S. Nuclear Regulatory Commission, Washington, DC 20555-0001.

For additional direction on obtaining and submitting comments, see “Obtaining Information and Submitting Comments” in the SUPPLEMENTARY INFORMATION section of this document.

FOR FURTHER INFORMATION CONTACT: Robert Lee Gladney, Office of Nuclear Material Safety and Safeguards, U.S. Nuclear Regulatory Commission, Washington, DC 20555-0001; telephone: 301-415-1022; email: Robert.Gladney@nrc.gov.

SUPPLEMENTARY INFORMATION:

I. Obtaining Information and Submitting Comments

A. Obtaining Information

Please refer to Docket ID NRC-2017-0198 when contacting the NRC about the availability of information for this action. You may obtain publicly-available information related to this action by any of the following methods:

• Federal Rulemaking Web site: Go to http://www.regulations.gov and search for Docket ID NRC-2017-0198.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS Accession Number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2017-0198 in your submission.

The NRC cautions you not to include identifying or contact information that you do not want to be publicly disclosed in your comment submission. The NRC posts all comment submissions at http://www.regulations.gov and enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In 2007, following developments in the national program for Low-Level Radioactive Waste disposal (LLRW), as well as changes in the regulatory environment, the NRC conducted a Strategic Assessment of the NRC's regulatory program for LLRW. The results of this assessment were published in late 2007 in SECY-07-0180, “Strategic Assessment of Low-Level Radioactive Waste Regulatory Program” (ADAMS Accession No. ML071350299). The goal of the 2007 assessment was to identify and prioritize staff activities that: (1) Ensure safe and secure LLRW disposal; (2) improve the effectiveness, efficiency, and adaptability of the NRC's LLRW regulatory program; and (3) ensure regulatory stability and predictability, while allowing flexibility in disposal options.

One high priority task (Task 2) in the Strategic Assessment was to address the challenge of alternative disposal of Very Low-Level Waste (VLLW), in accordance with § 20.2002 of title 10 of the Code of Federal Regulations (10 CFR), in non-traditional LLRW facilities such as Resource Conservation and Recovery Act facilities, as well as the regulatory review and approval needed for such disposal. In response to stakeholder input regarding the 2007 assessment, the NRC determined that the process for authorizing these disposals needed more consistency and clarity. The NRC committed to addressing these concerns through the development of new regulatory guidance.

On August 31, 2009, the NRC issued interim staff procedure, “Review, Approval, and Documentation of Low-Activity Waste Disposals in Accordance with 10 CFR 20.2002 and 10 CFR 40.13(a)” (ADAMS Accession No. ML092460058). Prior to its issuance, there had been no single procedure covering safety and security reviews, the preparation of an environmental assessment, and coordination with internal and external stakeholders for alternative disposal requests. Accordingly, this document was developed and issued to provide consistency and guidance for NRC staff's review of alternative disposal requests received from licensees, applicants, and other entities for alternative disposal of licensed material. In addition, the NRC determined that this guidance would be finalized after it had been implemented and used for more alternative disposal requests.

In order to set the direction for the NRC's LLRW regulatory program in the next several years, including the alternative disposal request review process, the NRC decided to conduct a new evaluation of the NRC's LLRW program (referred to as a Programmatic Assessment). The results of this assessment were published in October 2016, in SECY-16-0118, “Programmatic Assessment of Low-Level Radioactive Waste Regulatory Program” (ADAMS Accession No. ML15243A192). The objectives of the 2016 assessment were similar to the objectives of the 2007 Strategic Assessment. Both assessments also have considered future needs and changes that may occur in the nation's commercial LLRW management system. One of the high priority tasks (Task 5) included within Enclosure 1 (ADAMS Accession No. ML15243A205) of the Programmatic Assessment was to address the challenge of alternative disposal of VLLW by finalizing the draft guidance document. Per the Programmatic Assessment, this final draft would be published for public comment, then issued as a final document.

Accordingly, the purpose of this draft revision to the guidance is to improve the alternative disposal process by providing more clarity, consistency, and transparency to the process. In addition, this draft revision to the guidance also clarifies the meaning of disposal relative to 10 CFR 20.2002 authorizations to include recycling and reuse of materials. The draft revision to the guidance is available for public comment as ADAMS Accession No. ML16326A063. The NRC is interested in receiving comments related to the draft revision to the guidance from stakeholders, including professional organizations, licensees, Agreement States, and members of the public. Comments will be considered to determine if additional changes to the draft revision to the guidance and the alternative disposal request process are needed.

During the comment period, the NRC will conduct a public meeting at the NRC's Headquarters that will explain the draft revision to the guidance and address questions. Information regarding the public meeting will be posted on the NRC's public meeting Web site at least 10 calendar days before the meeting. The NRC's public meeting Web site is located at https://www.nrc.gov/public-involve.html.

The NRC will also post the meeting notice on the Federal rulemaking Web site at http://www.regulations.gov under Docket ID NRC-2017-0198. The NRC may post additional materials related to this document, including public comments, on the Federal rulemaking Web site. The Federal rulemaking Web site allows you to receive alerts when changes or additions occur in a docket folder. To subscribe: (1) Navigate to the docket folder (NRC-2017-0198); (2) click the “Sign up for Email Alerts” link; and (3) enter your email address and select how frequently you would like to receive emails (daily, weekly, or monthly).

III. Requested Information and Comments

The NRC staff will treat all public feedback as public comments on the draft revision to the guidance and consider them as it finalizes the revision to the guidance.

Dated at Rockville, Maryland, this 16th day of October 2017.
For the Nuclear Regulatory Commission.
Andrea Kock,
Deputy Director, Division of Decommissioning, Uranium Recovery, and Waste Programs, Office of Nuclear Material Safety and Safeguards.

[FR Doc. 2017-22694 Filed 10-18-17; 8:45 am]

BILLING CODE 7590-01-P